DEPARTMENT OF TRANSPORTATION

Surface Transportation Board

[STB Finance Docket No. 34141]

Brandywine Valley Railroad Company—Acquisition Exemption—Pennsylvania Department of Transportation

Brandywine Valley Railroad Company (BVRR), a Class III carrier, has filed a verified notice of exemption under 49 CFR 1150.41 to acquire approximately 17.59 miles of rail line owned by the Pennsylvania Department of Transportation (PennDOT), between milepost 12.7 at the Delaware Pennsylvania line and milepost 30.29 at Modena, in Chester County, PA (rail line). BVRR currently operates the rail line under a modified rail certificate. See STB Finance Docket No. 33772, Brandywine Valley Railroad Company—Modified Rail Certificate (STB served Apr. 16, 1999).¹

¹ Under the same modified rail certificate, BVRR also operates a rail line between milepost 18.0 at Wawa, PA and milepost 54.50 at the Pennsylvania/Maryland line near Sylmar, MD, a distance of 36.50 miles (Line 142), owned by Southeastern Pennsylvania Transportation Authority. BVRR has given notice of its intent to terminate service over Line 142, although it continues to operate Line 142 on a temporary basis.

BVRR states that, while the transaction has already been consummated, BVRR is filing this notice to cover its acquisition of the ownership interest of the rail line, and the change in status of the rail line from a state-owned line to a privately-owned line. There will be no change in operations over the rail line. The exemption became effective on December 25, 2001.

If the notice contains false or misleading information, the exemption is void ab initio. Petitions to reopen the proceeding to revoke the exemption under 49 U.S.C. 10502(d) may be filed at any time.

An original and 10 copies of all pleadings, referring to STB Finance Docket No. 34141, must be filed with the Surface Transportation Board, Office of the Secretary, Case Control Unit, 1925 K Street, NW., Washington, DC 20423-0001. In addition, a copy of each pleading must be served on Eric M. Hocky, Esq., Gollatz, Griffin & Ewing, P.C., 213 West Miner Street, P.O. Box 796, West Chester, PA 19381-0796, (610) 692-9116.

Board decision and notices are available on our Web site at WWW.STB.DOT.GOV.

Decided: December 27, 2001.
By the Board, David M. Konschnik, Director, Office of Proceedings.
Vernon A. Williams,
Secretary.

[FR Doc. 02-217 Filed 1-7-02; 8:45 am]

BILLING CODE 4915-00-P